DEPARTMENT OF AGRICULTURE

Animal and Plant Health Inspection Service

[Docket No. APHIS-2010-0070]

Notice of Request for Revision and Extension of Approval of an Information Collection; Importation of Live Swine, Pork, and Pork Products from Certain Regions Free of Classical Swine Fever in Chile and Mexico

AGENCY: Animal and Plant Health Inspection Service, USDA.

ACTION: Revision and extension of approval of an information collection; comment request.

SUMMARY: In accordance with the Paperwork Reduction Act of 1995, this notice announces the Animal and Plant Health Inspection Service’s intention to revise an information collection associated with regulations for the importation of live swine, pork, and pork products from certain regions free of classical swine fever in Chile and Mexico and to request extension of approval of the information collection.

DATES: We will consider all comments that we receive on or before October 12, 2010.

ADDRESSES: You may submit comments by either of the following methods:

• Federal eRulemaking Portal: Go to (http://www.regulations.gov/fdmspublic/component/main?main=DocketDetail&d=APHIS-2010-0070) to submit or view comments and to view supporting and related materials available electronically.

• Postal Mail/Commercial Delivery: Please send one copy of your comment to Docket No. APHIS-2010-0070, Regulatory Analysis and Development, PPD, APHIS, Station 3A-03.8, 4700 River Road Unit 118, Riverdale, MD 20737-1238. Please state that your comment refers to Docket No. APHIS-2010-0070.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on regulations for the importation of live swine, pork, and pork products from regions free of classical swine fever in Chile and Mexico, contact Dr. Magde Elshafie, Staff Veterinarian, Technical Trade Services Team—Products, NCIE, VS, APHIS, 4700 River Road Unit 40, Riverdale MD 20737; (301) 734-5259. For copies of more detailed information on the information collection, contact Mrs. Celeste Sickles, APHIS’ Information Collection Coordinator, at (301) 851-2908.

SUPPLEMENTARY INFORMATION: Title: Importation of Live Swine, Pork, and Pork Products from Certain Regions Free of Classical Swine Fever in Chile and Mexico.

OMB Number: 0579-0230.

Type of Request: Revision and extension of approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of livestock diseases and pests. To carry out this mission, APHIS regulates the importation of animals and animal products into the United States. The regulations are contained in title 9, parts 92 through 98, of the Code of Federal Regulations.

Part 94 allows the importation, subject to certain conditions, of live swine, pork, and pork products from certain regions that are free of classical swine fever (CSF) in Chile and Mexico to prevent the introduction of CSF into the United States. These conditions involve information collection activities, including certificates, cooperative agreements, and cooperative service agreements.

We are asking the Office of Management and Budget (OMB) to approve our use of these information collection activities for an additional 3 years.

This information collection includes information collection requirements approved under OMB control numbers 0579-0230, Importation of Live Swine, Pork, and Pork Products From Eight Mexican States; 0579-0235, Classical Swine Fever Status of Chile; and 0579-0333, Importation of Pork and Pork Products. After OMB approves and combines the burden for the three collections under a single collection, Importation of Live Swine, Pork, and Pork Products from Certain Regions Free of Classical Swine Fever in Chile and Mexico (0579-0230), the Department will retire numbers 0579-0235 and 0579-0333.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Federal animal health officials of the Governments of Chile and Mexico.

Estimated annual number of respondents: 11

Estimated annual number of responses per respondent: 7.82

Estimated annual number of responses: 86.

Estimated total annual burden on respondents: 86 hours. (Due to averaging, the total annual burden hours may not equal the product of the annual number of responses multiplied by the reporting burden per response.)

All responses to this notice will be summarized and included in the request for OMB approval. All comments will also become a matter of public record.

Done in Washington, DC, this 4th day of August 2010.
Gregory Parham
Acting Administrator, Animal and Plant Health Inspection Service.

[FR Doc. 2010-19689 Filed 8-9-10; 8:45 am]

BILLING CODE 3410-34-S